DEPARTMENT OF THE INTERIOR

National Park Service

[NPS-SER-OBRI-23968; PS.SSELA0328.00.1]

Minor Boundary Revision at Obed Wild and Scenic River

AGENCY: National Park Service, Interior.

ACTION: Notification of boundary revision.

SUMMARY: Notice is hereby given that the boundary of the Obed Wild and Scenic River is modified to include an additional 63.01 acres of land identified as Tract 101-63. The tract is located north of the Obed River and south of Hardwick Road in Morgan County, Tennessee. The boundary revision is depicted on Map No. 179/135,074 dated April 2017.

DATES: The date of this boundary revision is November 6, 2017.

ADDRESSES: The map is available for inspection 8 a.m. to 4 p.m. at the following locations: National Park Service, Southeast Region Land Resources Program Center, 1924 Building, 100 Alabama Street SW., Atlanta, Georgia 30303 and National Park Service, Department of the Interior, Washington, DC 20240.

FOR FURTHER INFORMATION CONTACT: National Park Service, Jeannie Whitler, Acting Chief, Southeast Region Land Resources Program Center, 1924 Building, 100 Alabama Street SW., Atlanta, Georgia 30303, telephone 404-507-5657.

SUPPLEMENTARY INFORMATION: Specifically, 54 U.S.C. 100506(c)(1) provides that, after notifying the House Committee on Natural Resources and the Senate Committee on Energy and Natural Resources, the Secretary of the Interior is authorized to make this boundary revision upon publication of notice in the Federal Register. The Committees have been notified of this boundary revision. This boundary revision and subsequent acquisition of Tract 101-63 by donation will enable the National Park Service to manage and protect significant resources located in the Obed Wild and Scenic River and is consistent with the Wild and Scenic Rivers Act.

Dated: October 5, 2017.
Stan Austin,
Regional Director, Southeast Region.

[FR Doc. 2017-24053 Filed 11-3-17; 8:45 am]

BILLING CODE 4312-52-P